DEPARTMENT OF COMMERCE

National Oceanic and Atmospheric Administration

[I.D. 111300A]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held December 4 through 12, 2000, in Anchorage, Alaska. See SUPPLEMENTARY INFORMATION for specific dates and times.

ADDRESSES: The meetings will be held at the Anchorage Hilton Hotel, 500 W. Third Avenue, Anchorage, Alaska. Council address: North Pacific Fishery Management Council, 605 W. 4th Ave., Suite 306, Anchorage, AK 99501-2252.

FOR FURTHER INFORMATION CONTACT: North Pacific Fishery Management Council staff, telephone: 907-271-2809.

SUPPLEMENTARY INFORMATION:

Meeting Dates, Times and Agendas

Monday, December 4 through Friday, December 8, 2000, 8 a.m.

The agenda for the Advisory Panel will mirror that of the Council listed below, with the exception of the reports under Item 1, and Item 10, appointments to committees.

Monday, December 4 through Thursday, December 7, 2000 8 a.m.

The Scientific and Statistical Committee (SSC) will address the following items on the Council agenda:

1. Steller sea lion issues.

2. Halibut Charter Individual Fishing Quota report.

3. All items under Groundfish Management in Council agenda Item 8.

Wednesday, December 6 through Tuesday, December 12, 2000, 8 a.m.

The agenda for the Council’s plenary session will include the following issues:

1. Reports:

(a) Executive Director's Report.

(b) State Fisheries Report by Alaska Department of Fish and Game.

(c) NMFS Management Report.

(d) Enforcement and Surveillance reports by NMFS and the Coast Guard.

(e) U.S. Fish and Wildlife report on sea otters.

(f) International Pacific Halibut Commission report on halibut quotas and discard mortality rates.

2. Halibut Subsistence. Review action taken in October, particularly the inclusion of Adak, Alaska in the list of eligible communities.

3. Crab Rationalization. Discuss possible alternatives and provide direction to staff for further development.

4. Essential Fish Habitat/Habitat Areas of Particular Concern. Status report and discussion of the stakeholder process.

5. Halibut Charter IFQ Program. Review corrected data and receive progress report on analysis.

6. Steller Sea Lion Issues. Review biological opinion and associated Steller sea lion protective measures and take action as appropriate.

7. American Fisheries Act:

(a) Review preliminary cooperative performance report.

(b) Industry report on Pacific cod sideboard issues.

8. Groundfish Management:

(a) Review Bering Sea/Aleutian Islands (BSAI) and Gulf of Alaska (GOA) Stock Assessment and Fishery Evaluation Reports for the 2001 groundfish fisheries.

(b) Provide recommendations for catch and bycatch specifications for the 2001 BSAI and GOA groundfish fisheries.

(c) Discuss BSAI Pacific cod pot gear suballocations; develop problem statement and provide direction to staff for analysis.

9. Staff Tasking:

(a) Industry and staff reports on potential salmon bycatch measures.

(b) Discussion and direction for Report to Congress on the effects of the American Fisheries Act.

(c) Review overall project tasking and provide direction to staff.

(d) Announcement of appointments to the Advisory Panel and SSC for 2001.

Sunday, December 10, 2000, 12 p.m.--Executive Session (This session is not open to the public.)

Other committees and workgroups may hold impromptu meetings throughout the meeting week. Such meetings will be announced during regularly scheduled meetings of the Council, Advisory Panel, and SSC, and will be posted at the hotel.

Although other issues not contained in this agenda may come before this Council for discussion, in accordance with the Magnuson-Stevens Fishery Conservation and Management Act (Magnuson-Stevens Act), those issues may not be the subject of formal Council action during this meeting. Council action will be restricted to those issues specifically listed in this notice and any issues arising after publication of this notice that require emergency action under section 305(c) of the Magnuson-Stevens Act, provided the public has been notified of the Council’s intent to take final action to address the emergency.

Special Accommodations

These meetings are physically accessible to people with disabilities. Requests for sign language interpretation or other auxiliary aids should be directed to Helen Allen at 907-271-2809 at least 5 days prior to the meeting dates.

Dated: November 13, 2000.
Richard W. Surdi
Acting Director, Office of Sustainable Fisheries, National Marine Fisheries Service.

[FR Doc. 00-29485 Filed 11-16-00; 8:45 am]

BILLING CODE: 3510-22-S